DEPARTMENT OF THE INTERIOR

Bureau of Ocean Energy Management, Regulation and Enforcement

Notice on Outer Continental Shelf Oil and Gas Lease Sales

AGENCY: Bureau of Ocean Energy Management, Regulation and Enforcement, Interior.

ACTION: List of Restricted Joint Bidders; Correction.

SUMMARY: The Bureau of Ocean Energy Management, Regulation and Enforcement published a notice in the Federal Register on January 24, 2011, entitled: “List of Restricted Joint Bidders” that contained an error. We are correcting the names of oil companies listed under Group VIII in that notice.

FOR FURTHER INFORMATION CONTACT: Samuel T. Cable, 703-787-1322.

Correction

In the Federal Register of January 24, 2011, in FR Doc. 2011-1319, on page 4129, correct “Summary: Group VIII” section to read:

Group VIII. Statoil ASA, Statoil Gulf of Mexico LLC; Statoil USA E&P, Inc.; Statoil Gulf Properties Inc.

Dated: January 31, 2011.
Michael R. Bromwich,
Director, Bureau of Ocean Energy Management, Regulation and Enforcement.

[FR Doc. 2011-2791 Filed 2-8-11; 8:45 am]

BILLING CODE 4310-MR-P